SMALL BUSINESS ADMINISTRATION

Audit and Financial Management Advisory (AFMAC) Committee Meeting

The U.S. Small Business Administration, Audit and Financial Management Advisory Committee (AFMAC) will host a public meeting on Thursday, November 9, 2006 at 9am. The meeting will take place at the U.S. Small Business Administration, 409 3rd Street, SW., Office of the Chief Financial Officer Conference Room, 6th Floor, Washington, DC 20416.

The purpose of the meeting is to discuss the SBA's FY 2006 Financial Reporting and FY 2006 Audit.

Anyone wishing to attend must contact Jennifer Main in writing or by fax. Jennifer Main, Chief Financial Officer, 409 3rd Street, SW., 6th Floor, Washington, DC 20416, phone: (202) 205-6449, fax: (202) 205-6969, e-mail: Jennifer.main@sba.gov.

Thomas M. Dryer,
Acting Committee Management Officer.

[FR Doc. E6-18601 Filed 11-3-06; 8:45 am]

BILLING CODE 8025-01-P